DEPARTMENT OF THE INTERIOR

Fish and Wildlife Service

[FWS-R4-ES-2010-N102; 40120-1112-0000-F2]

Draft Supplemental Environmental Impact Statement for Incidental Take and Wetland Fill Permits for Two Condominium Developments on the Fort Morgan Peninsula, Baldwin County, AL

AGENCY: Fish and Wildlife Service, Interior.

ACTION: Notice: receipt of applications for incidental take permits (ITPs) for Habitat Conservation Plan (HCP); availability of proposed HCP and draft Supplemental Environmental Impact Statement (dSEIS); request for comment.

SUMMARY: The U.S. Fish and Wildlife Service (Service) announces the availability of a proposed HCP, accompanying ITP applications, and a dSEIS related to two proposed developments that would take the Alabama beach mouse (Peromyscus polionotus ammobates) and place fill in wetlands on the Fort Morgan peninsula, Baldwin County, Alabama. The HCP analyzes the take of the Federally endangered Alabama beach mouse and fill in wetlands incidental to construction and occupation of adjacent residential and recreational condominium developments: Beach Club West and Gulf Highlands Condominiums (collectively BCWGH) projects. Fort Morgan Paradise Joint Venture and Gulf Highlands Condominiums, LLC (applicants) request ITPs under the Endangered Species Act of 1973, as amended, (Act) as well as permits from the Department of the Army, Corps of Engineers (Corps) for placing fill in wetlands under jurisdiction of the Clean Water Act. The Applicants' HCP describes the minimization and mitigation measures proposed to address the effects to the species and to wetlands.

DATES: We must receive any written comments on the ITP applications, joint HCP, and dSEIS at our Regional Office (see ADDRESSES) on or before September 15, 2010.

ADDRESSES: Documents will be available for public inspection by appointment during normal business hours at the Regional Office, 1875 Century Boulevard, Suite 200, Atlanta, GA 30345 (Attn: David Dell), or at the Fish and Wildlife Service Field Office, 1208-B Main Street, Daphne, AL 36526 (Attn: Field Supervisor).

FOR FURTHER INFORMATION CONTACT: Mr. David Dell, Regional HCP Coordinator (see ADDRESSES), telephone: 404/679-4144, or Mr. Carl Couret, Field Office Project Manager, at the Alabama Field Office (see ADDRESSES), telephone: 251/441-5868.

SUPPLEMENTARY INFORMATION: We announce the availability of applications for two ITPs, a joint HCP, and the availability of a dSEIS. The dSEIS is a combined assessment addressing the environmental impacts associated with these projects both individually and cumulatively. The applicants request 30-year ITPs under section 10(a)(1)(B) of the Act (16 U.S.C. 1531 et seq.) and also request permits from the Corps under section 404 of the Clean Water Act to place fill in jurisdictional wetlands. The Corps is a cooperating agency in the development of the dSEIS.

We specifically request information, views, and opinions from the public via this notice on our proposed Federal action, including identification of any other aspects of the human environment not already identified in the dSEIS under NEPA regulations (40 CFR 1506.6). Further, we specifically request information regarding the adequacy of the HCP per 50 CFR parts 13 and 17.

The dSEIS analyzes the preferred alternative, as well as a full range of reasonable alternatives and the associated impacts of each. Alternative 3 (Preferred Alternative) is located 1,100 to 1,300 feet from the Gulf of Mexico and north of tertiary dune habitat. This alternative mitigates for the unavoidable loss of 1.36 acres of wetlands and dedicates 135.2 acres of applicant-owned lands into conservation status via covenants, conditions and restrictions attached to the property, and conditions of any ITP that may be issued.

The Service previously issued ITPs in 2007 for one of the BCWGH alternatives that was preferred at that time. Following legal challenges and resultant court rulings, those ITPs were abandoned by the applicants. The Environmental Impact Statement for those previous ITPs has been revised to evaluate a new preferred alternative and now serves as the dSEIS for the new ITP applications.

Public Comments

If you wish to comment, you may submit comments by any one of several methods. Please reference application numbers TE08894A-0 and TE08896A-0 in such comments. You may mail comments to our Regional Office or the Alabama Field Office (see ADDRESSES). You may also comment via the Internet to david_dell@fws.gov or carl_couret@fws.gov. Please include your name and return mailing address in your e-mail message. If you do not receive a confirmation from us that we have received your e-mail, contact us directly at either telephone number listed (see FOR FURTHER INFORMATION CONTACT).

Finally, you may hand-deliver comments to either of our offices listed under ADDRESSES. Before including your address, phone number, e-mail address, or other personal identifying information in your comment, you should be aware that your entire comment—including your personal identifying information—may be made publicly available at any time. While you can ask us in your comment to withhold your personal identifying information from public review, we cannot guarantee that we will be able to do so.

Covered Area

The proposed BCWGH developments would be located on approximately 181.9 acres on the Fort Morgan peninsula, Baldwin County, Alabama, between State Highway 180 and the Gulf of Mexico (Section 28, Township 9 South, Range 2 East) about 12 miles west of Highway 59 in Gulf Shores, Alabama, on the Fort Morgan Peninsula. The ITPs would be for development of two condominium complexes totaling 38.7 acres. Under the preferred alternative, project development would result in the permanent and temporary loss of 48.1 acres of Alabama beach mouse habitat.

Next Steps

We will evaluate these ITP applications, including the HCP and any comments we receive, to determine whether these applications meet the requirements of section 10(a)(1)(B) of the Act. We will also evaluate whether issuance of the section 10(a)(1)(B) ITP complies with section 7 of the Act by conducting an intra-Service section 7 consultation. We will use the results of this consultation, in combination with the above findings, in our final analysis to determine whether or not to issue the ITP. If we determine that the requirements are met, we will issue the ITP for the incidental take of the Alabama beach mouse.

Authority: We provide this notice under section 10 of the Act (16 U.S.C. 1531 et seq.) and NEPA regulations (40 CFR 1506.6).

Dated: May 10, 2010.
Jacquelyn B. Parrish,
Acting Regional Director, Southeast Region.

[FR Doc. 2010-14617 Filed 6-16-10; 8:45 am]

BILLING CODE 4310-55-P